ENVIRONMENTAL PROTECTION AGENCY

[EPA-HQ-OPP-2004-0385; FRL-8420-7]

Permethrin; Second Revision to Reregistration Eligibility Decision

AGENCY: Environmental Protection Agency (EPA).

ACTION: Notice.

SUMMARY: This notice announces EPA's decision to modify the 2006 Reregistration Eligibility Decision (RED) for the pesticide permethrin based on the revised occupational and residential (ORE) risk assessment. EPA conducted this reassessment of the permethrin RED in response to new data submitted by the Consumer Specialty Product Association, Permethrin Dermal Absorption Group. Based on the new data received, the Agency has revised the ORE risk assessment and the permethrin RED, appropriately. In addition, the Agency revised the permethrin label table to reflect the updated labeling for permethrin residential, agricultural, and wide area public health use products.

FOR FURTHER INFORMATION CONTACT: Jacqueline Guerry, Special Review and Reregistration Division (7508P), Office of Pesticide Programs, Environmental Protection Agency, 1200 Pennsylvania Ave., NW., Washington, DC 20460-0001; telephone number: (215) 814-2184; fax number: (215) 814-3113; e-mail address: guerry.jacqueline@epa.gov.

SUPPLEMENTARY INFORMATION:

I. General Information

A. Does this Action Apply to Me?

This action is directed to the public in general, and may be of interest to a wide range of stakeholders including environmental, human health, farm worker and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2004-0385. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

Section 4 of the Federal Insecticide, Fungicide, and Rodenticide Act (FIFRA) directs EPA to reevaluate existing pesticides to ensure that they meet current scientific and regulatory standards. In April 2006, EPA issued a reregistration eligibility decision (RED) for permethrin under section 4(g)(2)(A) of FIFRA. The 2006 permethrin RED was first revised in December 2007 based on public comments and post-RED activities. However, the Agency has completed this most recent RED revision following receipt of a new study, Estimated Dermal Penetration in Humans Based on In Vitro and In Vivo Data, submitted by the Consumer Specialty Products Association, Permethrin Dermal Absorption Group. The amended permethrin RED reflects changes resulting from Agency consideration of the new data, as well as efforts by the Agency to appropriately mitigate overall risk.

The new data served to revise the dermal absorption factor relied upon in the cancer portion of the occupational and residential exposure (ORE) risk assessment from 15% to 5.7%. The revised RED captures the recent ORE cancer risk assessment, and also modifies the required risk mitigation appropriately. The Agency has also revised the RED document to reflect the current status of Office of Pesticide Program initiatives, such as the cumulative risk assessment and the Endangered Species Program. Further, in addition to the revised risk mitigation, which is captured in the Summary of Labeling Changes for Permethrin (label table), the Agency has incorporated a number of revisions to the label table to reflect updates in labeling on permethrin residential, agricultural, and wide area public health use products.

B. What is the Agency's Authority for Taking this Action?

Section 4(g)(2) of FIFRA, as amended, directs that, after submission of all data concerning a pesticide active ingredient, “the Administrator shall determine whether pesticides containing such active ingredient are eligible for reregistration,” before calling in product specific data on individual end-use products and either reregistering products or taking other “appropriate regulatory action.”

List of Subjects

Environmental protection, Pesticides and pests, Permethrin.

Dated: June 1, 2009.
Richard P. Keigwin, Jr.
Director, Special Review and Reregistration Division, Office of Pesticide Programs.

[FR Doc. E9-13474 Filed 6-9-09; 8:45 am]

BILLING CODE 6560-50-S